DEPARTMENT OF ENERGY

Notice of Intent To Prepare an Environmental Impact Statement for the Acquisition of a Natural Gas Pipeline and Natural Gas Utility Service at the Hanford Site, Richland, WA, and Notice of Floodplains and Wetlands Involvement (DOE/EIS-0467)

AGENCY: Department of Energy.

ACTION: Notice of Intent to Prepare an Environmental Impact Statement (EIS) and Notice of Floodplains and Wetlands Involvement.

SUMMARY: The Department of Energy (DOE) announces its intent to prepare an Environmental Impact Statement for the Acquisition of a Natural Gas Pipeline and Natural Gas Utility Service at the Hanford Site, Richland, Washington (Natural Gas Pipeline or NGP EIS), and initiate a 30-day public scoping period. DOE will prepare the NGP EIS in accordance with the National Environmental Policy Act (NEPA), the Council on Environmental Quality (CEQ) regulations that implement NEPA and DOE implementing procedures. DOE is inviting public comment on the proposed scope of the NGP EIS, including the alternatives and environmental issues to be evaluated.

DOE proposes to make natural gas available to facilities located on the Central Plateau of its Hanford Site near Richland, Washington, to help meet its objectives to reduce fuel costs, greenhouse gas (GHG) emissions, and dependence on foreign fuel sources. Because natural gas is not currently available on the Central Plateau of the Site, this action would involve entering into a contract with a licensed natural gas utility supplier to construct, operate, and maintain a natural gas pipeline and deliver natural gas utility service to DOE.

The proposed pipeline would begin from a new interconnect tap on the existing Williams Northwest Pipe transmission line in Franklin County, north of the Pasco, Washington, airport, and then run westerly across non-DOE lands and under the Columbia River onto the Hanford Site 300 Area, before turning northwest and paralleling Route 4S. The pipeline would terminate at facilities in the 200 East Area of the Central Plateau. The length of the proposed pipeline is estimated at about 30 miles.

DATES: DOE invites public comment on the scope of the NGP EIS during a 30-day public scoping period beginning January 23, 2012 and ending on February 22, 2012. DOE will consider all comments received or postmarked by the end of the scoping period, and will consider comments received or postmarked after the ending date to the extent practicable.

DOE will hold a public scoping meeting on February 9, 2012, from 7 p.m. to 9 p.m. at the Red Lion Hotel and Conference Center, Pasco, Washington. Further information about the public scoping meeting is provided under SUPPLEMENTARY INFORMATION.

ADDRESSES: Scoping comments may be submitted by regular mail as follows: Mr. Douglas Chapin, NEPA Document Manager, U.S. Department of Energy, Richland Operations Office, P.O. Box 550, MSIN A5-11, Richland, WA 99352.

Scoping comments may also be submitted by email to naturalgaseis@rl.gov.

To be placed on the distribution list for the Draft NGP EIS, use either of the methods listed above. In requesting a copy of the Draft NGP EIS, please specify preference for a printed copy of the entire Draft NGP EIS, a printed copy of the Summary only, the Draft NGP EIS and Summary on a computer CD, or any combination thereof.

FOR FURTHER INFORMATION CONTACT: For information on DOE's proposed action, contact Mr. Chapin by one of the methods listed in ADDRESSES above, or at (509) 373-9396.

For general information concerning DOE's NEPA process, contact: Ms. Carol M. Borgstrom, Director, Office of NEPA Policy and Compliance (GC-54), U.S. Department of Energy, 1000 Independence Avenue SW., Washington, DC 20585-0119, Telephone (202) 586-4600, Fax (202) 586-7031, Voice mail message 1-(800) 472-2756, Email asknepa@hq.doe.gov.

Additional information regarding DOE's NEPA activities is available on the DOE NEPA Web site at http://energy.gov/nepa.

SUPPLEMENTARY INFORMATION:

Background

Situated along the Columbia River in southeastern Washington, DOE's 586-square-mile Hanford Site is undergoing extensive efforts to clean up contamination resulting from past nuclear defense research and development activities dating back to World War II. To this end, DOE is constructing the Waste Treatment Plant (WTP) on the Site's Central Plateau (200 East Area). Once operational, the WTP will treat radioactive waste presently stored in underground storage tanks on the Central Plateau to prepare it for disposal.

The WTP is planned to be a chemical and radioactive waste processing facility capable of separating radioactive liquid waste stored underground in the Hanford Site's 200 East Area waste storage tanks into high-level radioactive waste (HLW) and low-activity waste fractions, and then blending the waste with molten glass (vitrification) to turn it into a stable form for safe disposal. The 242-A Evaporator, also located in the 200 East Area of the Hanford Site, receives liquid wastes pumped through underground pipes from the double-shell waste storage tanks (DSTs) and processes the waste to reduce its volume.

The 242-A Evaporator currently uses diesel fuel, and the WTP is planned to use diesel fuel as well. DOE has identified a number of potential advantages, including substantial cost savings, to replacing the use of diesel fuel with natural gas, supplementing with diesel fuel as necessary.

Purpose and Need for Agency Action

DOE needs to comply with Federal policy and legal responsibilities to reduce costs, GHGs, and dependence on foreign fuel sources, in accordance with the goals and objectives of the Energy Policy Act of 2005 (EPAct), Executive Order (EO) 13423, and EO 13514. The EPAct, enacted into law in August 2005, provides a long-term strategy to confront the energy challenges posed by increasing prices and growing dependence on foreign oil in a comprehensive, economic, and environmentally sensitive way. The EPAct establishes important national energy policy goals and directs DOE to increase energy security through diversification of energy sources, increased energy efficiency, and conservation.

EO 13423, Strengthening Federal Environmental, Energy, and Transportation Management (January 2007), specified goals in the areas of energy efficiency, renewable energy, toxic chemical reduction, recycling, sustainable buildings, electronics stewardship, fleets, and water conservation. EO 13514, Federal Leadership in Environmental, Energy, and Economic Performance (October 2009), established sustainability goals for Federal agencies and focused on improving their environmental, energy and economic performance. EO 13514 requires Federal agencies to set a 2020 GHG emissions reduction target; increase energy efficiency; reduce fleet petroleum consumption; conserve water; reduce waste; support sustainable communities; and leverage Federal purchasing power to promote environmentally-responsible products and technologies. Replacing diesel fuel with natural gas would support these goals. However, natural gas is not currently available on the Central Plateau of the Hanford Site. Accordingly, DOE would need to acquire a supply of natural gas to the WTP and 242-A Evaporator in the 200 East Area of the Hanford Site.

Proposed Action and Alternatives

DOE proposes to enter into a contract with a licensed natural gas utility supplier to provide natural gas to support WTP and the 242-A Evaporator operations in the 200 East Area of the Hanford Site. The proposed action would include, among other things, the construction, operation, and maintenance of a natural gas utility delivery system via a natural gas pipeline. Construction of the proposed natural gas pipeline would originate at a new interconnect tap on the existing Williams Northwest Pipe transmission line in Franklin County, north of the Pasco, Washington, airport. The pipeline would run westerly across non-DOE lands and under the Columbia River onto the Hanford Site 300 Area, before turning northwest and paralleling Route 4S, terminating at facilities in the 200 East Area of the Central Plateau. The total length of the proposed pipeline is estimated at about 30 miles.

As required by CEQ and DOE NEPA implementing regulations (40 Code of Federal Regulations [CFR] Parts 1500-1508 and 10 CFR Part 1021), DOE will evaluate the Proposed Action and No Action alternative for the acquisition of natural gas utility service at the WTP and the 242-A Evaporator, as well as alternative pipeline routing alignments and alternative pipeline diameters of approximately 12, 15, and 20 inches as a representative sampling of potential options. At this time, DOE does not plan to evaluate other sources of energy supply, or other means to supply natural gas, to the WTP and 242-A Evaporator. In addition, DOE has no other intended or planned uses for the proposed natural gas utility service on the Hanford Site at this time, and is not aware of any proposals by others for use of the natural gas.

Under the No Action alternative, DOE would not contract for acquisition of natural gas utility service, and thus, the pipeline would not be constructed. DOE would continue to use diesel fuel to power the 242-A Evaporator and would use diesel fuel to power the WTP, as currently planned.

Because all reasonable alternative pipeline routing alignments involve crossing the Columbia River, portions of the proposed action may affect floodplains and wetlands. This NOI serves as a notice of proposed floodplain or wetland action in accordance with DOE floodplain and wetland environmental review requirements (10 CFR part 1022). As appropriate and in accordance with 10 CFR part 1022, the NGP Draft EIS will include a floodplain and wetland assessment, and a floodplain statement of findings will be included in the Final EIS or may be issued separately (10 CFR 1022.14(c)).

National Historic Preservation Act

Section 106 of the National Historic Preservation Act (NHPA) requires Federal agencies to take into account the effects of their undertakings on historic properties. Federal agencies are encouraged to coordinate compliance with Section 106 of the NHPA with any steps taken to meet the requirements of NEPA. DOE plans to use the NEPA process and documentation required for the preparation of this EIS to satisfy applicable requirements of NHPA Section 106. As specified in the regulations issued by the Advisory Council on Historic Preservation (ACHP) to implement the Section 106 process (36 CFR part 800, 800.8), DOE will use the NEPA process in lieu of the procedures set forth in §§ 800.3 through 800.6. DOE specifically invites the ACHP, the State of Washington Historic Preservation Officer (SHPO), Hanford Area Tribal Nations, and members of the public to participate in this NEPA process for the purpose of ensuring the standards in 36 CFR 800.8(c)(1) through 800.8(c)(5) are met, including identifying mitigation actions that may be appropriate to address potential adverse effects that may result from implementing the Proposed Action.

Preliminary Identification of Environmental Issues

DOE proposes to analyze potential short-term health and environmental impacts, such as those from construction, and potential long-term health and environmental impacts of operating and maintaining the pipeline over a period assumed to be 100 years for the purposes of analysis, once service commences. DOE will analyze potential issues and impacts at a level of detail commensurate with their importance. Potential impact areas to be evaluated include, but are not limited to, the following:

• Potential effects on public health and workers from exposures to hazardous materials during construction, operations, and transportation under routine and credible accident scenarios.

• Potential impacts on surface water and groundwater, floodplains, and wetlands, and on water use and quality.

• Potential impacts on air quality.

• Potential noise impacts.

• Potential impacts on plants and animals and their habitat, including species that are Federal- or state-listed as threatened or endangered, or of special concern.

• Potential impacts on geology and soil characteristics.

• Potential impacts on historic and cultural resources including places, viewshed, archeological, and Native American or other culturally important sites.

• Socioeconomic impacts, either beneficial or adverse, on potentially affected communities.

• Environmental justice, particularly whether the proposed action or alternatives have disproportionately high and adverse effects on minority and low-income populations.

• Potential impacts on land-use plans, policies and controls, and visual resources.

• Pollution prevention and waste management practices and activities.

• Unavoidable adverse impacts and irreversible and irretrievable commitments of resources.

• Potential cumulative environmental effects of past, present and reasonably foreseeable actions.

• Potential impacts of reasonably foreseeable accidents and potential impacts from intentionally destructive acts, including sabotage or terrorism.

• Potential natural disasters: floods, hurricanes, tornadoes, and seismic events.

• Status of compliance with all applicable Federal, state and local statutes and regulations, and required Federal and state environmental permits, consultations and notifications.

Invitation for Public Comment

DOE invites Federal agencies; State, Tribal, and local governments; organizations; and the general public to comment on the scope of the EIS, including identification of alternatives and specific issues to be addressed.

DOE also invites comments on the potential adverse effects that may result from the Proposed Action with respect to historic resources governed by NHPA, along with suggested actions DOE might take to mitigate any such adverse effects. DOE will coordinate with appropriate Federal, State, and local agencies and potentially affected Native American tribes during the preparation of the EIS. While there are no designated cooperating agencies at this time, DOE plans to invite Federal, State, and local government agencies with jurisdiction by law or special expertise to participate as cooperating agencies in preparing the EIS.

DOE will consider all comments received during a 30-day public scoping period beginning January 23, 2012 and ending on February 22, 2012. DOE will consider comments received after that date to the extent practicable.

At the public scoping meeting, DOE will provide an overview of the proposed action followed by a short, informal question-and-answer period to clarify the information presented. Thereafter, the public will have an opportunity to present oral and written comments on the proposed EIS scope; oral comments will be documented by a court reporter. DOE will consider all public scoping comments in preparing the Draft NGP EIS.

Issued at Washington, DC, on January 17, 2012.
David Huizenga,
Acting Assistant Secretary for Environmental Management.

[FR Doc. 2012-1139 Filed 1-20-12; 8:45 am]

BILLING CODE 6450-01-P